ENVIRONMENTAL PROTECTION AGENCY

[EPA-HQ-OPP-2013-0611; FRL-9905-34]

Pesticide Maintenance Fee; Cancellation Order for Certain Pesticide Registrations

AGENCY: Environmental Protection Agency (EPA).

ACTION: Notice.

SUMMARY: This notice announces EPA's order for the cancellation, voluntarily requested by the registrants and accepted by the Agency, of the products listed in Table 1 of Unit II., pursuant to the Federal Insecticide, Fungicide, and Rodenticide Act (FIFRA). This cancellation order follows a June 26, 2013, Federal Register Notice of Receipt of Requests from the registrants listed in Table 2 of Unit II., to voluntarily cancel these product registrations. In the June 26, 2013 notice, EPA indicated that it would issue an order implementing the cancellations, unless the Agency received substantive comments within the 180-day comment period that would merit further review of these requests, or unless the registrants withdrew their requests. The Agency received three requests from registrants withdrawing their requests for EPA Reg. Nos. 432-1473, 1677-90 and WA030027. Also, EPA Reg. No. OR030037 was cancelled under another Federal Register notice published on September 13, 2013. Accordingly, EPA hereby issues in this notice a cancellation order granting the requested cancellations. Any distribution, sale, or use of the products subject to this cancellation order is permitted only in accordance with the terms of this order, including existing stocks provisions.

DATES: The cancellations are effective January 15, 2014.

FOR FURTHER INFORMATION CONTACT: Michael Yanchulis, Information Technology and Resources Management Division (7502P), Office of Pesticide Programs, Environmental Protection Agency, 1200 Pennsylvania Ave. NW., Washington, DC 20460-0001; telephone number: (703) 347-0237; email address: yanchulis.michael@epa.gov.

SUPPLEMENTARY INFORMATION:

I. General Information

A. Does this action apply to me?

This action is directed to the public in general. Although this action may be of particular interest to persons who produce or use pesticides, the Agency has not attempted to describe all the specific entities that may be affected by this action. If you have any questions regarding the information in this notice, consult the person listed under FOR FURTHER INFORMATION CONTACT.

B. How can I get copies of this document and other related information?

EPA has established a docket for this action under docket identification (ID) number EPA-HQ-OPP-2013-0611. Publicly available docket materials are available either in the electronic docket at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

This notice announces the cancellation, as requested by registrants, of 261 products registered under FIFRA section 3 and FIFRA section 24(c) which are listed in sequence by registration number in Table 1 of this unit.

Table 1—Cancellations of Products Due to Non-Payment Maintenance Fees
Registration No. | EPA Company No. | Product name | Chemical name
000100-00701 | 100 | Amber Herbicide | Triasulfuron.
000100-00800 | 100 | Ridomil Gold Bravo | D-Alanine, N-(2,6-dimethylphenyl-N-(methoxyacetyl)-,methyl ester; Chlorothalonil.
000100-00848 | 100 | Zorial Rapid 80 Herbicide | Norflurazon.
000228-00557 | 228 | Atera GC 2+1 SC Insecticide | Bifenthrin; Imidacloprid.
000239-02683 | 239 | Ortho Home Pest Insect Killer | Bifenthrin.
000264-00378 | 264 | Larvin Brand DF Thiodicarb Insecticide/Ovicide | Thiodicarb.
000264-00379 | 264 | Larvin Brand 3.2 Thiodicarb Insecticide/Ovicide | Thiodicarb.
000264-00467 | 264 | Aliette Fungicide | Fosetyl-Al.
000264-00504 | 264 | Aliette Injectable Fungicide | Fosetyl-Al.
000264-00530 | 264 | Larvin Brand DF WSP Thiodicarb Insecticide/Ovicide | Thiodicarb.
000264-00700 | 264 | Dropp SC Cotton Defoliant | Thidiazuron.
000264-00705 | 264 | Scala 400 SC Fungicide | Pyrimethanil.
000264-00735 | 264 | Sencor 4 Flowable Herbicide | Metribuzin.
000264-00737 | 264 | Bayleton 50% Dry Flowable Fungicide | Triadimefon.
000264-00750 | 264 | Raxil 0.26 FS Seed Treatment Fungicide | Tebuconazole.
000264-00782 | 264 | Encore 190 Insecticide | Imidacloprid.
000264-00928 | 264 | Gustafson Captan 30-DD | Captan.
000264-00931 | 264 | Gustafson Captan 400 | Captan.
000264-00939 | 264 | Gustafson RTU-Baytan-Thiram Fungicide | Triadimenol.
000264-00949 | 264 | Vitavax PC Peanut Seed Treatment Fungicide | Thiram; Carboxin; Pentachloronitrobenzene; Captan.
000264-00961 | 264 | Raxil 0.26 FS Seed Treatment Fungicide | Tebuconazole.
000264-00965 | 264 | Busan 30A | 2-(Thiocyanomethylthio) benzothiazole.
000264-00966 | 264 | Raxil XT Wettable Powder Fungicide | Tebuconazole; Metalaxyl.
000264-00973 | 264 | Evolve Potato Seed Piece Treatment Fungicide | Cymoxanil; Thiophanate-methyl; Mancozeb.
000264-00975 | 264 | Protege 70WP Fungicide | Azoxystrobin.
000264-00979 | 264 | Protege-Allegiance WP Fungicide | Azoxystrobin; Metalaxyl.
000264-00982 | 264 | Protege-FL Seed Applied Fungicide | Azoxystrobin.
000264-00990 | 264 | Tops 30 Flowable Fungicide | Thiophanate-methyl.
000264-00991 | 264 | Soygard L with Protege | Azoxystrobin; Metalaxyl.
000264-00999 | 264 | Three Way Peanut Seed Treatment Fungicide | Metalaxyl; Trufloxystrobin; Captan.
000352-00636 | 352 | DuPont Advion Cockroach Bait Station | Indoxacarb.
000352-00637 | 352 | DuPont Provaunt 1.25 SC Insecticide | Indoxacarb.
000352-00646 | 352 | DuPont Advion Ant Bait Station | Indoxacarb.
000352-00770 | 352 | DuPont Aperion ST Insecticide | Indoxacarb.
000400-00469 | 400 | Dimilin 25W Mushrooms | Diflubenzuron.
000400-00559 | 400 | Protector-L | Thiram.
000432-01310 | 432 | Merit 0.62 Granular | Imidacloprid.
000432-01311 | 432 | Merit 2.5 G Greenhouse and Nursery Insecticide | Imidacloprid.
000464-00661 | 464 | Bioban 2000 | 2-Methyl-3(2H)-isothiazolone; 5-Chloro-2-methyl-3(2H)-isothiazolone.
000464-00679 | 464 | Tris Nitro Solid | 2-(Hydroxymethyl)-2-nitro-1,3-propanediol.
000499-00430 | 499 | Whitmire TC 148A Microencapsulated Concentrate—Contains Nylar | Pyriproxyfen.
000499-00439 | 499 | Whitmire TC 148B | Pyriproxyfen.
000499-00537 | 499 | TC-296 | Dinotefuran.
000499-00554 | 499 | TC-329 | Dinotefuran.
000524-00538 | 524 | MON 78271 Herbicide | Glycine, N-phosphonomethyl) -potassium salt.
001448-00017 | 1448 | Busan 11-M1 | Barium metaborate.
001448-00023 | 1448 | Busan 90 | Ethanone, 2-bromo-1-(4-hydroxyphenyl)-.
001448-00045 | 1448 | Busan 93 | 2-(Thiocyanomethylthio) benzothiazole; Ethanone, 2-bromo-1-(4-hydroxyphenyl)-.
001448-00075 | 1448 | DCDIC | Carbamodithioic acid, cyano-, disodium salt.
001448-00342 | 1448 | Busan 1130 | Ethanone, 2-bromo-1-(4-hydroxyphenyl)-.
001448-00367 | 1448 | Busan 90C | Ethanone, 2-bromo-1-(4-hydroxyphenyl)-.
001448-00386 | 1448 | TCMTB 5WB | 2-(Thiocyanomethylthio) benzothiazole.
001529-00033 | 1529 | Nuosept 145 Preservative | Methanol, (((1-methyl-2-(5-methyl-3-oxazolidinyl) ethoxy)methoxy)methoxy)-.
001677-00056 | 1677 | Bar Star Bar Glass Sanitizer | Dodecylbenzenesulfonic acid; Phosphoric acid.
001706-00237 | 1706 | SD Algaecide | 1-Octanaminium, N,N-dimethyl-N-octyl-, chloride.
002217-00692 | 2217 | Gordon's Professional Turf Products Teremec SP Turf Fungicide | Chloroneb.
002724-00592 | 2724 | SPI Residual Pressurized Spray II | Pyrethrins; Permethrin; MGK 264.
002724-00642 | 2724 | Speer Flea & Tick Spray IV | Pyrethrins; Permethrin; Piperonyl butoxide.
002724-00648 | 2724 | Speer Neoperm Total Release Indoor Fogger IV | Tetramethrin; Permethrin; Piperonyl butoxide.
002724-00709 | 2724 | Elite Quick-Kill Spray Concentrate | Pyrethrins; Piperonyl butoxide.
002724-00776 | 2724 | Linalool Mousse | Pyriproxyfen; Prallethrin; MGK 264; Linalool.
005813-00049 | 5813 | Clorox Toilet Bowl Cleanser | Sodium hypochlorite.
005887-00169 | 5887 | Black Leaf Vitamin B1 Solution | 1-Naphthaleneacetic acid.
007173-00239 | 7173 | Difethialone Block | Difethialone.
007173-00240 | 7173 | Generation Blue Pellets Bait Packs | Difethialone.
007969-00249 | 7969 | Bas 510 ST Seed Treatment Fungicide | Boscalid.
008622-00043 | 8622 | Metapicrin | Chloropicrin.
009198-00094 | 9198 | The Andersons Tee Time with 0.92% Team | Trifluralin; Benfluralin.
009198-00110 | 9198 | The Andersons Tee Time Insecticide with 6.2% Dylox | Trichlorfon.
009198-00112 | 9198 | The Andersons 0.5% Bayleton Fungicide | Triadimefon.
009198-00153 | 9198 | Andersons Fertilizer Weed & Feed with 0.92% Atrazine | Atrazine.
009198-00155 | 9198 | The Andersons Fertilizer with .1875% Dimension & 1.0% Ronstar | Dithiopyr; Oxadiazon.
009198-00156 | 9198 | The Andersons GC Fertilizer Plus 0.058% Bifenthrin | Bifenthrin.
009198-00161 | 9198 | The Andersons 0.058% Bifenthrin Insect Control Plus Fertilizer | Bifenthrin.
009198-00162 | 9198 | The Andersons 0.029% Bifenthrin Insect Control Plus Fertilizer | Bifenthrin.
009198-00171 | 9198 | Anderson's Fertilizer Plus Pre-emergent Weed Control | Pendimethalin.
009198-00174 | 9198 | Anderson's Proturf Fertilizer Plus Weedgrass Control | Pendimethalin.
009198-00186 | 9198 | St. Augustine Weed Control Plus Fertilizer | Atrazine.
009198-00208 | 9198 | Fertilizer Plus Fungicide XI | Myclobutanil.
009198-00218 | 9198 | The Andersons 0.51% Granule Propiconazole | Propiconazole.
009198-00220 | 9198 | Andersons Golf Products 30% Etradiazole Turf Fungicide | Etridiazole.
009198-00221 | 9198 | Andersons Golf Products Truban Fungicide 30% WP | Etridiazole.
009198-00223 | 9198 | The Andersons Insect Killer Granules with 2.0% Carbaryl | Carbaryl.
009198-00238 | 9198 | The Andersons 0.058% Bifenthrin + 0.115% Imidacloprid Insecticide with Fertilizer | Bifenthrin; Imidacloprid.
009198-00240 | 9198 | The Andersons GC 0.077% Bifenthrin + 0.155% Imidacloprid Granular Insecticide | Bifenthrin; Imidacloprid.
009198-00241 | 9198 | The Andersons GC 0.058% Bifenthrin + 0.115% Imidacloprid Insecticide with Fertilizer | Bifenthrin; Imidacloprid.
009198-00246 | 9198 | The Andersons 0.39% Trinexapac-Ethyl + Fertilizer | Trinexapac-ethyl.
009198-00248 | 9198 | The Andersons 0.75% Prodiamine Herbicide | Prodiamine.
009198-00249 | 9198 | The Andersons 0.5% Prodiamine Herbicide | Prodiamine.
010088-00083 | 10088 | Prometon 12.5% Herbicide Concentrate | Prometon.
010163-00323 | 10163 | Scythe L Herbicide | Nonanoic acid.
034704-00318 | 34704 | Dormant Flowable Emulsion | Mineral oil.
034704-00337 | 34704 | Niagara Citrus Sol Oil Light Medium Code 30390 | Mineral oil.
054625-00002 | 54625 | Brita Water Filter Travel Pak | Silver; Glycine, hydriodide (4:1), compound with iodine (4:5).
055146-00056 | 55146 | Gibgro 5% Powder | Gibberellic acid.
055146-00086 | 55146 | Agtrol 6-BA | Gibberellin; Benzyladenine.
060061-00005 | 60061 | 2000 Soft Sloughing Type Antifouling Paint | Cuprous oxide.
060061-00033 | 60061 | Vinelast Antifouling Finish 720 Permanent Red | Cuprous oxide.
060061-00034 | 60061 | Woolsey Vinelast Antifouling Racing Finish 733 Permanent Green | Cuprous oxide.
060061-00035 | 60061 | Woolsey Vinelast Antifouling Racing Finish 734 Permanent Blue | Cuprous oxide.
060061-00051 | 60061 | Pettit Marine Paint Antifouling 1210 Blue Tropic | Cuprous oxide.
060061-00065 | 60061 | Pettit Marine Paint Unepoxy Tin Free Antifouling 1619 Red for Tropic | Cuprous oxide.
060061-00077 | 60061 | Neptune II Water Based Antifouling Finish 550 Blue | Cuprous oxide.
066330-00271 | 66330 | Dimethoate Technical | Dimethoate.
067071-00002 | 67071 | Acticide PM | Chlorothalonil; Diuron.
067071-00036 | 67071 | Microcare ITA | 2-Methyl-3(2H)-isothiazolone; 5-Chloro-2-methyl-3(2H)-isothiazolone.
067071-00045 | 67071 | Acticide MBL 5515 | 1,2-Benzisothiazlin-3-one; Bronopol.
067071-00059 | 67071 | Acticide CBM-F | 5-Chloro-2-methyl-3(2H)-isothiazolone; 1,2-Benzisothiazolin-3-one; 2-Methyl-3(2H)-isothiazolone.
067619-00018 | 67619 | Silvio | Silver; Citric acid.
070404-00009 | 70404 | Tinosan SDC-R | Silver; Citric acid.
074655-00002 | 74655 | Spectrum RX-33 | Sodium chlorite.
074655-00004 | 74655 | Spectrum RX-32 | Methylene bis (thiocyanate).
074655-00009 | 74655 | Spectrum RX-508 | 2,2-Dibromo-3-nitrilopropionamide.
074655-00010 | 74655 | Spectrum RX-65 | Alkyl* dimethyl benzyl ammonium chloride *(50%C14, 40%C12, 10%C16); Bis(trichloromethyl) sulfone.
074655-00022 | 74655 | Amerstat 300 | 2,2-Dibromo-3-nitrilopropionamide.
074655-00029 | 74655 | Drewborm Precursor | Sodium bromide.
075318-00006 | 75318 | B2E-01 | S-Methoprene.
083222-00024 | 83222 | Bifen 2 Ag Gold-Cal | Bifenthrin.
AL110001 | 100 | Gramoxone Inteon | Paraquat dichloride.
AR070007 | 264 | Ricestar HT Herbicide | Fenoxaprop-p-ethyl.
AR090001 | 81880 | Permit Herbicide | Halosulfuron.
AR110001 | 10163 | Permit Plus | Thifensulfuron; Halosulfuron-methyl.
AR120010 | 81880 | Permit Plus | Thifensulfuron; Halosulfuron-methyl.
AR120011 | 81880 | Permit Plus | Thifensulfuron; Halosulfuron-methyl.
AR120012 | 81880 | Permit Plus | Thifensulfuron; Halosulfuron-methyl.
AR120013 | 81880 | Permit Plus | Thifensulfuron; Halosulfuron-methyl.
AR120015 | 81880 | Permit Plus | Thifensulfuron; Halosulfuron-methyl.
AR810044 | 264 | Monitor 4 | Methamidophos.
AR870007 | 264 | Monitor 4 | Methamidophos.
AR940001 | 59639 | Valent Bolero 10 G | Thiobencarb.
AZ030004 | 66222 | Thiodan 3 EC Insecticide | Endosulfan.
AZ080005 | 352 | DuPont Layby Pro Herbicide | Diuron; Linuron.
AZ880001 | 264 | Rovral Fungicide | Iprodione.
AZ910004 | 10163 | Gowan Trifluralin 10G | Trifluralin.
AZ980004 | 19713 | Drexel Endosulfan 3EC | Endosulfan.
CA040015 | 66222 | Galigan 2E Oxyfluorfen Herbicide | Oxyfluorfen.
CA040018 | 66222 | Galigan 2E Oxyfluorfen Herbicide | Oxyfluorfen.
CA040019 | 100 | Subdue Maxx | D-Alanine, N-(2,6-dimethylphenyl-N-(methoxyacetyl)-, methyl ester.
CA060014 | 62719 | M-Pede | Potassium laurate.
CA070009 | 66222 | Rimon 0.83 EC | Novaluron.
CA790188 | 264 | Monitor 4 | Methamidophos.
CA810059 | 264 | Sevin Brand Sprayable Carbaryl Insecticide | Carbaryl.
CA960002 | 34704 | Western Farm Service Dusting Sulfur | Sulfur.
CA960006 | 62719 | Eagle WSP Fungicide | Myclobutanil.
CA970014 | 62719 | Goal (R) 2XL Herbicide | Oxyfluorfen.
CA980001 | 264 | Provado 1.6 Flowable | Imidacloprid.
CA990015 | 62719 | Confirm 2F Agricultural Insecticide | Tebufenozide.
CO080001 | 279 | Mustang Max EC Insecticide | Zeta-Cypermethrin.
DE010002 | 264 | Sevin XLR Plus Carbaryl Insecticide | Carbaryl.
DE040002 | 55146 | Phostrol Agricultural Fungicide | Phosphorous acid.
DE060001 | 66222 | Diazinon AG500 | Diazinon.
FL000007 | 62719 | Dithane DFAgricultural Fungicide | Mancozeb.
FL000012 | 59639 | Select Herbicide | Clethodim.
FL040008 | 50534 | Bravo Ultrex | Chlorothalonil.
FL090011 | 279 | Fury 1.5 EW Insecticide | Zeta-Cypermethrin.
FL890036 | 264 | Sevin Brand 80 S Carbaryl Insecticide | Carbaryl.
FL890037 | 264 | Sevin Brand 4F Carbaryl Insecticide | Carbaryl.
GA040004 | 50534 | Bravo Ultrex | Chlorothalonil.
GA100005 | 100 | Gramoxone Inteon | Paraquat dichloride.
GA110004 | 66222 | Cotoran 4L | Fluometuron.
HI030001 | 66222 | Thionex 50W | Endosulfan.
HI070006 | 66222 | Thionex 3EC | Endosulfan.
HI090004 | 2935 | HBT—Imaz | Imazapyr, isopropylamine salt.
HI910008 | 34704 | Superior 70 Oil | Mineral oil.
IA080002 | 279 | Mustang Max EC Insecticide | Zeta-Cypermethrin.
ID000016 | 352 | Curzate 60DF | Cymoxanil.
ID030002 | 66222 | Thionex 3EC | Endosulfan.
ID030016 | 10163 | Carzol SP Miticide/insecticide In water soluble packaging | Formetanate hydrochloride.
ID060018 | 66222 | Abba 0.15EC | Abamectin.
ID080001 | 279 | Mustang Max EC Insecticide | Zeta-Cypermethrin.
ID080016 | 100 | Dual II Magnum | S-Metolachlor.
IL080002 | 279 | Mustang Max EC Insecticide | Zeta-Cypermethrin.
IN980002 | 100 | Princep Caliber 90 Herbicide | Simazine.
KS020001 | 7969 | Distinct Herbicide | Diflufenzopyr-sodium; Dicamba, sodium salt.
KS040006 | 66222 | Atrazine 4L | Atrazine.
KS040008 | 62719 | NAF-127 | Spinosad.
KS110003 | 7173 | Rozol Prairie Dog Bait | Chlorophacinone.
KS120002 | 7173 | Rozol Prairie Dog Bait | Chlorophacinone.
LA010010 | 241 | Scepter 70 DG Herbicide | Imazaquin.
LA020006 | 62719 | Confirm 2F Agricultural Insecticide | Tebufenozide.
LA060009 | 7969 | Termidor 80 WG Termiticide/insecticide | Fipronil.
LA060010 | 7969 | Termidor SC Termiticide/insecticide | Fipronil.
LA090003 | 100 | Reflex Herbicide | Sodium salt of fomesafen.
LA090004 | 279 | Mustang Max EW Insecticide | Zeta-Cypermethrin.
LA100001 | 10163 | Onager Miticide | Hexythiazox.
LA110002 | 10163 | Permit Plus | Thifensulfuron; Halosulfuron-methyl.
ME000003 | 62719 | Mimic 2LV | Tebufenozide.
ME080003 | 352 | Dupont Express Herbicide with total soluble granules | Tribenuron-methyl.
MN020010 | 100 | Trinexapac Liquid | Trinexapac-ethyl.
MN080001 | 279 | Mustang Max EC Insecticide | Zeta-Cypermethrin.
MN080008 | 352 | DuPont Coragen Insect Control | Chlorantraniliprole.
MO090001 | 100 | Reflex Herbicide | Sodium salt of fomesafen.
MO110002 | 100 | Callisto Herbicide | Mesotrione.
MO120005 | 100 | Callisto Herbicide | Mesotrione.
MS020022 | 352 | Super Boll | Ethephon.
MS060011 | 66222 | Abba 0.15EC | Abamectin.
MS060013 | 352 | DuPont Classic Herbicide | Chlorimuron.
MS090004 | 100 | Reflex Herbicide | Sodium salt of fomesafen.
MS110002 | 81880 | Permit Plus | Thifensulfuron; Halosulfuron-methyl.
MT080001 | 279 | Mustang Max EC Insecticide | Zeta-Cypermethrin.
NC060004 | 100 | Gramoxone Inteon | Paraquat dichloride.
NC080001 | 66222 | Thionex 3EC | Endosulfan.
NC080004 | 352 | DuPont Linex 4L Herbicide | Linuron.
NC090006 | 66330 | Permethrin 3.2 AG | Permethrin.
NC110002 | 100 | Gramoxone Inteon | Paraquat dichloride.
ND020001 | 62719 | Treflan H.F.P. | Trifluralin.
ND080001 | 279 | Mustang Max EC Insecticide | Zeta-Cypermethrin.
ND080002 | 279 | Mustang Max EC Insecticide | Zeta-Cypermethrin.
NE020003 | 7969 | Distinct Herbicide | Diflufenzopyr-sodium; Dicamba, sodium salt.
NE080001 | 279 | Mustang Max EC Insecticide | Zeta-Cypermethrin.
NE080002 | 279 | Mustang Max EC Insecticide | Zeta-Cypermethrin.
NJ030004 | 100 | Dual Magnum Herbicide | S-Metolachlor.
NJ040001 | 100 | Dual Magnum Herbicide | S-Metolachlor.
NJ060001 | 100 | Gramoxone Inteon | Paraquat dichloride.
NJ990004 | 100 | Dual Magnum Herbicide | S-Metolachlor.
NJ990005 | 100 | Dual Magnum Herbicide | S-Metolachlor.
NM010001 | 264 | Balance Flexx Herbicide | Isoxaflutole.
NM080003 | 7969 | Endura Fungicide | Boscalid.
NV060010 | 66222 | Abba 0.15EC | Abamectin.
NY010002 | 62719 | Confirm 2F Agricultural Insecticide | Tebufenozide.
NY020001 | 100 | Actara | Thiamethoxam.
NY100002 | 100 | Platinum Insecticide | Thiamethoxam.
NY100003 | 100 | Flagship 25WG | Thiamethoxam.
NY100004 | 100 | Flagship 0.22G | Thiamethoxam.
NY100005 | 100 | Endigo ZC | Lambda-Cyhalothrin; Thiamethoxam.
NY100006 | 100 | Platinum 75 SG Insecticide | Thiamethoxam.
NY110002 | 7969 | Bas 556 SC | Metconazole; Pyraclostrobin.
OH050001 | 66222 | Rimon 0.83 EC | Novaluron.
OH080001 | 279 | Mustang Max EC Insecticide | Zeta-Cypermethrin.
OR000007 | 100 | Trinexapac Liquid | Trinexapac-ethyl.
OR030008 | 66222 | Equus DF | Chlorothalonil.
OR030012 | 66222 | Thionex 50W Insecticide | Endosulfan.
OR030013 | 66222 | Thiodan 3 EC Insecticide | Endosulfan.
OR030024 | 66222 | Thiodan 3 EC Insecticide | Endosulfan.
OR060020 | 62719 | Laredo EC | Myclobutanil.
OR990037 | 100 | Bravo 825 | Chlorothalonil.
OR990038 | 100 | Bravo 720 | Chlorothalonil.
SC100001 | 100 | Endigo ZC | Lambda-Cyhalothrin; Thiamethoxam.
SC100004 | 100 | Gramoxone Inteon | Paraquat dichloride.
SC110002 | 100 | Reflex Herbicide | Sodium salt of fomesafen.
SC900004 | 100 | Reflex 2lC Herbicide | Sodium salt of fomesafen.
SD040002 | 7969 | Pristine Fungicide | Pyraclostrobin; Boscalid.
SD040003 | 7969 | Emerald Fungicide | Boscalid.
SD060005 | 7969 | Outlook Herbicide | Dimethenamide-P.
SD920007 | 279 | Capture 2 EC | Bifenthrin.
TN090002 | 100 | Reflex Herbicide | Sodium salt of fomesafen.
TX100001 | 10163 | Onager Miticide | Hexythiazox.
TX100012 | 279 | Fury 1.5 EW Insecticide | Zeta-Cypermethrin.
UT070003 | 400 | Acramite-4SC | Befenazate.
UT070004 | 66222 | Rimon 0.83 EC | Novaluron.
VA010001 | 59639 | Distance Insect Growth Regulator | Pyriproxyfen.
VA089999 | 59639 | Safari 20 SG Insecticide | Denotefuran.
WA010034 | 66222 | Galigan 2E | Oxyfluorfen.
WA010037 | 66222 | Galigan 2E | Oxyfluorfen.
WA090012 | 62719 | Lorsban Advanced | Chlorpyrifos.
WA100001 | 264 | Sevin Brand 4F Carbaryl Insecticide | Carbaryl.
WA990001 | 264 | Ethrel Brand Ethephon Plant Regulator | Ethephon.
WI010008 | 66330 | Iprodione 4l AG | Iprodione.
WY080002 | 279 | Mustang Max EC Insecticide | Zeta-Cypermethrin.
WY120003 | 7173 | Rozol Prairie Dog Bait | Chlorophacinone.

Table 2 of the unit includes the names and addresses of record for all registrants of the products in Table 1 of this unit, in sequence by EPA company number.

Table 2—Registrants Requesting Voluntary Cancellation
EPA Company No. | Company name and address
100 | Syngenta Crop Protection, LLC., P.O. Box, 18300, Greensboro, NC 27419-8300.
228 | Nufarm Americas, Inc., 4020 Aerial Center Pkwy., Suite 103, Morrisville, NC 27560.
239 | The Scotts Company, D/B/A The Ortho Group, P.O. Box 190, Marysville, OH 43030.
241 | BASF Corp., P.O. Box 13528, Research Triangle Park, NC 27709-3528.
264 | Bayer CropScience LP., P.O. Box 12014, Research Triangle Park, NC 27709.
279 | FMC Corp., Agricultural Products Group, 1735 Market St., Rm. 1978, Philadelphia, PA 19103.
352 | E.I. Du Pont de Nemours & Co., 1007 Market Street, Wilmington, DE 19898-0001.
400 | Chemtura Corp., 199 Benson Rd., Middlebury, CT 06749.
432 | Bayer Environmental Science, A Division of Bayer CropScience LP., P.O. Box 12014, Research Triangle Park, NC 27709.
464 | The Dow Chemical Company, 1500 East Lake Cook Road, Buffalo Grove, IL 60089.
499 | Whitmire Micro-Gen Research Laboratories, Inc., 3568 Tree Court Industrial Blvd., St. Louis, MO 63122-6682.
524 | Monsanto Company, 1300 I Street NW., Suite 450 E., Washington, DC 20005.
1448 | Buckman Laboratories Inc., 1256 North McLean Blvd., Memphis, TN 38108.
1529 | International Specialty Products, An Ashland Inc. Business, 1361 Alps Road, Wayne, NJ 07470.
1677 | Ecolab Inc., 370 North Wabasha Street, St. Paul, MN 55102.
1706 | Nalco Company, A Subsidiary of Ecolab Inc., 370 North Wabasha Street, St. Paul, MN 55102.
2217 | PBI/Gordon Corp., P.O. Box 014090, Kansas City, MO 64101-0090.
2724 | Wellmark International, 1501 E. Woodfield Rd., Suite 200 W., Schaumburg, IL 60173.
2935 | Wilbur-Ellis Company, P.O. Box 1286, Fresno, CA 93715
5813 | The Clorox Co., C/O PS&RC, P.O. Box 493, Pleasanton, CA 94566-0803.
5887 | Value Gardens Supply, LLC., 9100 W. Bloomington Freeway, Suite 113, Bloomington, MN 55431.
7173 | Liphatech, Inc., 3600 W. Elm Street, Milwaukee, WI 53209.
7969 | BASF Corp., Agricultural Products, P.O. Box 13528, Research Triangle Park, NC 27709-3528.
8622 | ICL-IP America, Inc., 95 Maccorkle Ave., Southwest, South Charleston, WV 25303.
9198 | The Andersons Lawn Fertilizer Division, Inc., P.O. Box 119, Maumee, OH 43537.
10088 | Athea Laboratories Inc., P.O. Box 240014, Milwaukee, WI 53224.
10163 | Gowan Co., P.O. Box 5569, Yuma, AZ 85366-8844.
19713 | Drexel Chemical Company, P.O. Box 13327, Memphis, TN 38113-0327.
34704 | Loveland Products, Inc., P.O. Box 1286, Greeley, CO 80632-1286.
50534 | GB Biosciences Corp., P.O. Box 18300, Greensboro, NC 27419-5458.
54625 | The Brita Products Co., C/O PS&RC, P.O. Box 493, Pleasanton, CA 94566-0803.
55146 | Nufarm Americas, Inc., 4020 Aerial Center Pkwy., Suite 103, Morrisville, NC 27560.
59639 | Valent U.S.A. Corporation, 1600 Riviera Avenue, Suite 200, Walnut Creek, CA 94596.
60061 | Kop-Coat, Inc., 3020 William Pitt Way, Pittsburgh, PA 15238.
62719 | Dow Agrosciences LLC., 9330 Zionsville Road, Indianapolis, IN 46268-1054.
66222 | Makhteshim Agan of North America, Inc., 3120 Highwoods Blvd., Suite 100, Raleigh, NC 27604.
66330 | Arysta Lifescience North America, LLC., 15401 Weston Parkway, Suite 150, Cary, NC 27513.
67071 | Thor GMBH, c/o Thor Specialties Inc., 50 Waterview Drive, Shelton, CT 06484.
67619 | Clorox Professional Products Company, C/O PS&RC, P.O. Box 493, Pleasanton, CA 94566-0803.
70404 | BASF Corporation, 100 Park Avenue, Florham Park, NJ 07932.
74655 | Hercules Incorporated, A Wholly Owned Subsidiary of Ashland Inc., 7910 Baymeadows Way, Suite 100, Jacksonville, FL 32256.
75318 | B2E Biotech LLC., 1501 East Woodfield Road, Schaumburg, IL 60173.
81880 | Canyon Group LLC., C/O Gowan Company, 370 S. Main Street, Yuma, AZ 85364.
83222 | Direct Ag Source, LLC., P.O. Box 538, Eldora, IA 50627.

III. Summary of Public Comments Received or Withdraw of Requests and Agency Response

During the public comment period provided, EPA received three requests from registrants, withdrawing their requests for cancellation in response to the June 26, 2013, Federal Register notice (78 FR 38319) (FRL-9388-4) announcing the Agency's receipt of requests for voluntary cancellation of products listed in Table 1 of Unit II. through the Maintenance Fee process. The Agency is thus retaining the registration for EPA Reg. Nos. 432-1473, 1677-90 and WA030027.

IV. Cancellation Order

Pursuant to FIFRA section 6(f), EPA hereby approves the requested cancellations of the registrations identified in Table 1 of Unit II. Accordingly, the Agency hereby orders that the product registrations identified in Table 1 or Unit II., are canceled. The effective date of the cancellations that are subject to this notice is January 15, 2014. Any distribution, sale, or use of existing stocks of the products identified in Table 1 of Unit II., in a manner inconsistent with any of the provisions for disposition of existing stocks set forth in Unit VI., will be a violation of FIFRA.

V. What is the Agency's authority for taking this action?

Section 6(f)(1) of FIFRA provides that a registrant of a pesticide product may at any time request that any of its pesticide registrations be canceled. FIFRA further provides that, before acting on the request, EPA must publish a notice of receipt of any such request in the Federal Register. Thereafter, following the public comment period, the EPA Administrator may approve such a request. The notice of receipt for this action was published for comment in the Federal Register of June 26, 2013. The comment period closed on December 23, 2013.

VI. Provisions for Disposition of Existing Stocks

The effective date of cancellation will be January 15, 2014. EPA will prohibit the continued sale and distribution of existing stocks of these products after the effective date of this cancellation.

List of Subjects

Environmental protection, Administrative practice and procedure, Pesticides and pests.

Dated: January 29, 2014.
Steven Bradbury,
Director, Office of Pesticide Programs.

[FR Doc. 2014-04097 Filed 2-25-14; 8:45 am]

BILLING CODE 6560-50-P